DEPARTMENT OF TRANSPORTATION

Pipeline and Hazardous Materials Safety Administration

49 CFR Part 171

General Information, Regulations, and Definitions

CFR Correction

In Title 49 of the Code of Federal Regulations, Parts 100 to 177, revised as of October 1, 2017, on page 131, in § 171.8, reinstate the definition of “specification packaging” to read as follows:

§ 171.8 Definitions and abbreviations.

* * * * *

Specification packaging means a packaging conforming to one of the specifications or standards for packagings in part 178 or part 179 of this subchapter.

* * * * *

[FR Doc. 2018-02303 Filed 2-2-18; 8:45 am]

BILLING CODE 1301-00-D